DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2019. For purposes of this listing, long-term residents, as defined in section 877(e)(2), are treated as if they were citizens of the United States who lost citizenship.

Last name | First name | Middle name/initials
ABHAR WUENSCH | CHRISTA
ANDO | MASAHIRO
ANDREASYAN | ARTHUR
ANKER | ANNE-MARIE
APPLEGATE | LEE | ANN
ARMSTRONG | MAURICE | RICHARD
ARNOLD | ANTOINE | JUNE MECHTHILD
ARTHUR | RICHARD | T.W.
AWFORD | NICOLA | LOUISE
BAER | PATRICK | MICHAEL
BALAM | ESENC | MERIC
BALDWIN | EDITH | LYNN
BALTES | MONIKA
BARLETT | ROBERT | PAUL
BATES | JILLIAN | M.
BAUER | CAROL | HELEN
BAUMANN | ALEX
BECKET | SANDRA | MARISOL
BENNETT | MOTOKO
BENSON | LESLEY | JANE
BESKOW | ANNA | MARIE
BI | MINGQIANG
BOCCHI | LAURA | MARIA
BODDAERT | CHRISTIAN
BONINI | BETH | BROWN
BOSWELL | JIMMIE | DALE
BOULEVARD | HARRY | ANDREW
BOYER | FREDERIQUE | SIMONE CHRISTIANE
BRANDON | KATHERINE | ANNE
BREWER | RENE | ELAINE
BRIND'AMOUR RIFFOU | GABRIEL | LIAM
BROADBENT | OAN
BROOKS | NEIL | EDWARD
BUCHEGGER | ZYANYA | SILIA
BULLEN | ROBERT
BUSER | SELINA | BARBARA
CAMERON | STUART | K.
CAMPBELL | SHIRLEY | MURRAY
CAMPBELL-WESTLIND | ERIC | MAGNUS MICHAEL
CECIL | MICHAEL
CHALERMKITTCHAI | PONGTAWAT
CHAN | WILSON
CHEN | AILENE | CHEUNG
CHEN | KUEI-HO
CHENG | CANDICE
CHEUNG | ANDREW | MAN CHIU
CIUMMO | BARBARA
CIUMMO | VINCENZO | RICCIOTTI JOHN
CLARK II | JONH | MAURICE
CLOUSTON | PERRY | LOU
COBB | LAURA | MARIE
COHN | DAVID | MARTIN
COOKE BARNETT | SUSAN | PATRICIA
CUNHA | FERNANDO | BRANDAO LOBATO
DALAL | AADIT | HARSHAD
D'AMBROSIO | LOREN | AZRAEL
DAMSLETH | NICHOLAS | KAI
DAWE | MARY | JOSEPHINE
DE MESTRAL | SOPHIE | AIMEE
DE VRIES | DANIEL | M.
DEMBINSKI | MIGUEL | M.
DIDAOUI | TAREK
DIL | NICO | PAUL
DIXON | MARCHANT
DOLSKI | DIANE | G.
DOLSKI | GARY | L.
DRAPER | ANTHONY | J.
DUFF HORLICK | GEORGE | SIMON
EDWARD | CHRISTY
EDWARD | MARY | LEELA
EUGSTER-BELLWALD | BARBARA | KRISTINA
EVANS | ALFRED | HENRY
FARNWORTH | NIGEL
FIFE | SARAH | RODMAN
FLEET | GILLIAN | J.
FLEET | NEVILLE | J.
FOLZ | KELLY | ANNE
FRANKLE | ROBERT | ETHAN
FURUYA | RUMIKO
GAA | MARIYLN | ANNE
GAIFFI | ELISSA | JESSICA
GARTY | JOHN | PATRICK
GAUKRODGER | ELSPETH | JANE
GAUTHIER | VINCENT
GERMAN | VERNA
GRANT | MOIRA | ALEXANDRA
GRANT | STUART | SPENCER
GREEN | NAOMI | JOYCE
GREENBERG | KENNETH | JOSEPH
GREENFIELD | SABINE | ELISABETH
GREER BUTLER | EDWARD | JACK
GUSTAVSSON ATASEL | DENIZ | HJORDIS
HALFORD | ROBERTA | SUE
HARDMAN | NADEGE | MARTHA
HARNISCHBERG | SONJA
HARPER | IAN | MICHAEL
HEINI | BRENDA | ANA
HELMICK | DORA
HEMPHILL WITSCHI | ELSBETH | SUSANNA
HERTACH | INGRID
HIGA | FUMI
HIGA | YOSHIMITSU
HIRATO | AKIO
HIRATO | TERUKO
HOFF | RUTH | ELSEBETH
HOLM | PAMELA | JEAN
HOLSTI | LIISA
HONG | HEA | RA
HOWE | MARALYN | N.
HWANG | PI LON | LIN
ILS | CHRISTOPH
IMMER | HEIDI | CHRISTINE
JACKSON CANFIL | STANLEY | ARTHUR
JACOBSON-PETROV | JOHANNA | RUTH
JANSEN | DAVID | PATRICK
JANSEN | TIMOTHY | VINCENT
JERROLD | YVONNE
JEWELL | CHRISTINE | MARIE
JHALA | PRADHUMAN
JOHNSON | EDWARD | JOSEPH
JONES | LOREEN | EVELYN
JONES | MARGARET | MARY
JONES | OLIVER | ALAN SOMERSET
JORDAN | OLIVIA | MICHELLE
JUDGE III | THOMAS | ATCHISON
KALYN | ANGELA | KARIN
KANG | DAE | JIN
KANOST | HEATHER | HERMINA
KIRKPATRICK | TOMOKO | U.
KISSOON | NIRANJAN
KITAMURA | SAKAE
KLASSEN | ALICE | ANN
KOENIG | WILLIAM | RUDOLPH
KRAMER | NANCY | GAIL
KRAUTHAMMER | MICHAEL | O.
KUBIN-CLANIN | ERNA | ROSEMARIE
KUCHER | TRENT | S.
KWAS-CAMS | MICHELE | JULIE
LAMONT | LINDA | BURNHAM
LANDER | SLADE | HALL
LAPLANE ZARROUATI | SABIN | ELISABETH
LAURENT | ELENIE | ANN
LEE | VINCENT | WEI-WEN
LEEMANN | LUCAS | THOMAS
LEHNIS | JANICE | KATHRYN
LEMOINE | ALIX | RENATA MARIE
LENZLINGER | DARIUS | IRAJ
LEVA | LINDA | MARIE
LI | XING
LIEB | CHRISTOPHER | E.
LITTLE | ROBERT | B.
LOCHER-DWORKIN | ROBERTA | MARIE
LUDER | PASCAL | MATTHIAS
LUNA | ENRIQUE | ANTONIO
MACHT | ALYSSA | ERIKA
MADER | NINA | CAROL
MARCHAL | RUTA | MEDENIS
MARQUIS | ELIZABETH | FAYE
MARRIS | MARTIN | D.
MARTIN | JOANNA | ELIZABETH
MASSAGUE | GERARD
MAYBUD | SUSAN | JOAN
MC ARDELL | ERIC | PETER
MCCONNELL | JEFFREY | BRUCE
MCKEEVER | UNA
MERCURY | NANCY
MILLER | KENNETH | JAMES
MILLS | CONSTANCE | ANN
MINKOWITZ | CYDNEY | J.
MONGEON-BUDHRAM | DIANNE | LYNN
MORANTZ | ALAN | HOWARD
MORLINI | VINCENZO
MORRIS | MARGARET | DAVEY
MUTZKE | ANNE-CATHERINE
MYERS | SHARON
NAKAJIMA | JUNKO
NATHANSON | BARBARA | ARLENE
NORDBORG | INGMAR | STEN ANDRA'S
NOYES | CYNTHIA | ANN
O'DONNELL | MARGARET | MARY
OHLER | UWE
OIEN | NANCY | C.
OLESEN | MARYAM | NATHALIE KADJAR
ONO | NORIKO
OPENSHAW | CHARLES | ANDERSON
PAKOWSKI | ISABEL | JOHANNA
PARK | SANG | M.
PASZTORY | BALAZS | GABOR ANDRAS
PATEL | TARA
PAULEY | ROYCE | ANTHONY
PERKINS | JAMES | HENRY
PETRUS | JEREMY | WAYNE
PHILLIPS | CONSTANCE | MARY
PLASCENCIA | JUAN | J.
PONTIN ADLER | JOAN | MARSHA
RAMPA ATTINGER | TAMARA | DANIELA
REISSENBERGER | TIM
REVELL | SARAH | JANE
ROBERTSON | DAVID | C.
ROIZEN | JACQUES
ROSALES DANUSER | PAULA | ANDREA
RUSH III | JOHN | VICTOR
SADEGHI | ALEXANDRE | ROGER CHARLES
SALLMANN | KAREN | CZUCHRY
SANGER | SYLVIA | A.
SBROCCHI | STEPHANIE | CLARE
SCHLOSSER | CHRISTOPHER | ROBERT
SCHMID | RAOUL | MANFRED
SCHRYVER | PATRICK | CLINTON
SCHWARZ | HERBERT | ERICH
SENGER-WEISS | VIVIENNA | CHRISTINE
SEO | HYE-REE | SOPHIA
SHAAR | RAMI | ADNAN
SIDHU | JAGMIT | K.
SINERIUS | HENDRIK
SKENE | ZOE | J.
SMITH | JEAN | E.
SMITH | RHODA | J.
SONG | YUN | YING
SPENCER | JAN BRYON | C.
SPENCER | MIRIAM
STEWARD | ROBERT | EDWARD
SURCHAT | CAROLINE | MELANIE
TAGAWA | KAZUE
TAGAWA | KOKICHI
THAM | MAY YEE | A.
THOM | KELLY | ANN
THOMMEN | YANNICK | MARC
THOMPSON | VICKI | J.
TOSE | MICHAEL | BERNARD LEIGH
TRUMPLER | DANIEL | JAMES
TWELKER | SUNNY | SONYA
ULRICH | MICAELA | KREISBERG
VAN ZEVEREN | LAURENCE | INGRID JEANNE
VIGUS | BRIAN
VIGUS | GERALDINE | G.
VIGUS | MICHAEL | B.
VOGEL | TOMOKO
VOISIN | CATHERINE | J.
VOISIN | FABRICE
WAGNER | CHERYL | ANN
WALKER | SCOTT | POLMANTEER
WALTHER | LAURA | J.
WASER | ANDREAS | RUDOLF
WENNIGES | JORG | WILHELM
WHITE | ROSIE | JEAN
WHITFIELD | CHARLES | P.
WIEDERKEHR | PETER | JAMES
WILES | OLIVER | JULIAN
WILLIAMS | ERIC | HENRY AVELANGE
WILLMS | ANNA | SOPHIA GEORGINA ELISABETH
WITTEK | JANINE
WONG | DICKSON
WUENSCHE | SEBASTIAN | BENJAMIN
YING TIN | JEFFREY | SHAW
YU | JIANYING
ZANOTTA | DENA | CARMEN
ZEHNDER | LEXIA | ROSE
ZEUS | GABRIELE | G.
ZIJLSTRA | NICO | CHRISTIAAN
ZIMMERMANN | JENNY | MARIE

Dated: January 27, 2020.
Pamela Ross,
Manager Classification Team 82413, Examinations Operations—Philadelphia Compliance Services.

[FR Doc. 2020-02632 Filed 2-10-20; 8:45 am]

BILLING CODE 4830-01-P